DEPARTMENT OF THE INTERIOR

Bureau of Indian Affairs

Notice of Intent To Prepare an Environmental Impact Statement for the Proposed Nottawaseppi Huron Band of Potawatomi Indians' Proposed 79 Acre Fee-to-Trust Transfer and Casino Project in Emmett Township, Calhoun County, MI

AGENCY: Bureau of Indian Affairs, Interior.

ACTION: Notice.

SUMMARY: This notice advises the public that the Bureau of Indian Affairs (BIA) as lead agency, with the National Indian Gaming Commission (NIGC) as cooperating agency, intends to gather the information necessary for preparing an Environmental Impact Statement (EIS) for a proposed 79 acre fee-to-trust land transfer and casino project in Calhoun County, Michigan. The purpose of the proposed action is to help meet the economic development needs of the Tribe. This notice also announces a public scoping meeting to identify potential issues and alternatives for analysis in the EIS.

DATES: Written comments on the scope and implementation of this proposal must arrive by August 12, 2004. The public scoping meeting will be held July 28, 2004, starting at 7 p.m. We estimate that the EIS will be ready for a Record of Decision by June 2005. This estimate includes public comment periods of 30 days for this notice, 45 days for the Draft EIS and 30 days for the Final EIS, plus time for scoping, notice issuance, a public hearing, response to comments, document revision and legal review.

ADDRESSES: You may mail or hand carry written comments to Mr. Terrance L. Virden, Director, Midwest Region, Bureau of Indian Affairs, Bishop Henry Whipple Federal Building, One Federal Drive, Room 550, Ft. Snelling, Minnesota 55111. The public scoping meeting, to be hosted by the BIA, will be held at the McCamly Plaza Hotel, 50 Capitol Avenue, SW., Battle Creek, Michigan 49017.

FOR FURTHER INFORMATION CONTACT: Herb Nelson (612) 713-4400, ext. 1143.

SUPPLEMENTARY INFORMATION: The BIA proposes to take 79 acres of land into trust on behalf of the Tribe, on which the Tribe proposes to build a casino. The property is located along the south side of Interstate 94 (I-94) in Emmett Township, Calhoun County, Michigan, at the Eleven Mile Road exit. The project design includes a 170,000 to 210,000 square foot casino, support area, restaurants, gift shop and parking for 3400 patrons and employees and 20 busses, to be located on the 79-acre parcel. Possible alternatives to the proposed action include no action, alternative locations for the fee-to-trust transfer, and modifications to the project design.

This project was originally addressed in an Environmental Assessment (EA) prepared under the direction of the BIA and the Tribe by EDAW, Inc., with a Finding of No Significant Impact (FONSI). As a result of a legal challenge, based on the EA and FONSI, to the decision by the Assistant Secretary—Indian Affairs to take the land into trust for the Tribe, the BIA has withdrawn the EA and FONSI and now intends to prepare an EIS for the proposed project. The following provides a brief background to this decision.

On January 27, 2000, after the Tribe submitted its application to have the land in question taken into trust, Calhoun County and Emmett Charter Township sponsored a community public forum/hearing to receive comments on the Tribe's application. The record of this meeting was submitted as part of the comments on the Tribe's application and on the EA. On July 18, 2001, the BIA issued a draft of the EA for public review and comment. It received over a thousand pages of comments from local governments, citizen organizations and individuals. The BIA reviewed and responded to each of these comments accordingly. In February 2002, the BIA completed the final EA, which included the comments and responses to those comments as an appendix. The FONSI was issued on July 31, 2002.

On August 9, 2002, the Assistant Secretary—Indian Affairs published his decision to accept the 79 acres into trust for the Tribe in the Federal Register (67 FR 51867), to be effective thirty days after this date of publication. The legal challenge to the decision led to an April 23, 2004 order in CETAC v. Norton, Civ. Action No. 02-1754 (TPJ), remanding the EA to the Department of Interior for revision or for the preparation of an EIS. The BIA subsequently concluded that the potential environmental impact of the proposed action was significant enough to warrant an EIS.

Issues identified to date to be addressed in the EIS include the following:

• Traffic (how the traffic generated by the casino development may effect the existing transportation system);

• Socio-economics (how the project may affect employment and income, housing, schools, and infrastructure);

• Cumulative effects (environmental impacts which result from the incremental impact of the project when added to other past, present, and reasonably foreseeable future actions regardless of what agency, Federal or other, or person undertakes such other actions);

• Indirect effects (environmental impacts of the project which are caused by the action and are later in time or farther removed in distance from the direct effects, but are still reasonably foreseeable, including growth inducing effects and other effects related to induced changes in the pattern of land use, population density or growth rate, and related effects on air and water and other natural systems, including ecosystems); and

• Impacts including geology, soils, hydrology, water quality, and noise (analysis would include direct, indirect and cumulative impacts).

The issues listed above are based on the previous EA and comments received on that EA. The issues and the alternatives to be addressed in the EIS remain open to expansion based on comments submitted in response to this notice and at the public scoping meeting.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.

Dated: July 1, 2004.
Aurene M. Martin,
Principal Deputy Assistant Secretary—Indian Affairs.

[FR Doc. 04-15821 Filed 7-12-04; 8:45 am]

BILLING CODE 4310-W7-P